SECURITIES AND EXCHANGE COMMISSION

[File No. 500-1]

In the Matter of Typhoon Touch Technologies, Inc.; Order of Suspension of Trading

July 18, 2008.

It appears to the Securities and Exchange Commission that the public interest and the protection of investors require a suspension of trading in the securities of Typhoon Touch Technologies, Inc., because there is a lack of current and accurate information concerning its securities. Questions have arisen regarding a recent increase in the share price from $8 to $25 following a 100 for one forward split and during a period when no material information about the company would explain such a price increase. Also, questions have been raised about the accuracy and adequacy of publicly-disseminated information concerning, among other things, the availability of shares for trading and delivery, and the current shareholders of the company. Typhoon Touch Technologies, Inc., is quoted on the Pink Sheets and the Over the Counter Bulletin Board under the ticker symbol TYTT.

The Commission is of the opinion that the public interest and the protection of the investors require a suspension of trading in securities of the above-listed company.

Therefore, it is ordered, pursuant to Section 12(k) of the Securities Exchange Act of 1934, that trading in the above-listed company is suspended for the period from 9:30 a.m. EDT, July 18, 2008, through 11:59 p.m. EDT, on July 31, 2008.

By the Commission.
Jill M. Peterson,
Assistant Secretary.

[FR Doc. 08-1460 Filed 7-18-08; 1:25 pm]

BILLING CODE 8010-01-P